DEPARTMENT OF HOMELAND SECURITY

Coast Guard

[Docket No. USCG-2019-0139]

Certificate of Alternative Compliance for the Tug RANDY McCRANEY

AGENCY: Coast Guard, DHS.

ACTION: Notification of issuance of a certificate of alternative compliance.

SUMMARY: The Coast Guard announces that the Fifth District, Chief of Prevention Division has issued a certificate of alternative compliance from the International Regulations for Preventing Collisions at Sea, 1972 (72 COLREGS), for the towing vessel RANDY McCRANEY, Official Number (O.N.) 1292293, Master Boat Builders Hull Number 459. We are issuing this notice because its publication is required by statute. Due to its construction, purpose and service, the towing vessel RANDY McCRANEY cannot fully comply with the light, shape, or sound signal provisions of the 72 COLREGS without interfering with the vessel's design and construction. This notification of issuance of a certificate of alternative compliance promotes the Coast Guard's marine safety mission.

DATES: The Certificate of Alternative Compliance was issued on March 15, 2019.

FOR FURTHER INFORMATION CONTACT: For information or questions about this notice call or email LCDR Ronaydee M. Marquez, District Five, Asst. Chief, Inspections and Investigations, U.S. Coast Guard; telephone: 757-398-6682, email: Ronaydee.M.Marquez@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Fifth District, Chief of Prevention Division, U.S. Coast Guard, certifies that the RANDY McCRANEY, O.N. 1292293 is a vessel of special construction or purpose, and that, with respect to the position of the sidelights, it is not possible to comply fully with the requirements of the provisions enumerated in the 72 COLREGS, without interfering with the normal operation, or design of the vessel. The vessel is a dual-mode Articulated Tug (ATB), which intends to operate as an ATB as well as multiple other modes such as towing alongside, harbor ship/barge assist tug and towing on a towline. Placing the sidelights at or near the side of the vessel would interfere with the vessel's purpose and operations, and would place the sidelights as risk of damage during the course of normal operations. The sidelights will be installed on the elevated pilothouse, 6′7″ inboard from the sides of the vessel. The Fifth District, Chief of Prevention Division further finds and certifies that the sidelights are in the closet possible compliance with the applicable provisions of the 72 COLREGS.⁵

⁵ 33 U.S.C. 1605(a); 33 CFR 81.9.

This notice is issued under authority of 33 U.S.C. 1605(c) and 33 CFR 81.18.

Dated: April 18, 2019.
J.R. Barnes,
CAPT, U.S. Coast Guard, Chief, Prevention Division, Fifth Coast Guard District.

[FR Doc. 2019-08406 Filed 4-25-19; 8:45 am]

BILLING CODE 9110-04-P